DEPARTMENT OF AGRICULTURE

Forest Service

Fairfield Ranger District Sheep Allotment AMP EIS, Fairfield Ranger District, Elmore & Camas Counties, Idaho

AGENCY: Forest Service, USDA.

ACTION: Cancellation of Notice of intent to prepare environmental impact statement.

SUMMARY: This document provides notice of cancellation of the intent to prepare an environmental impact statement (EIS) on a proposal to update the allotment management plans for twelve sheep allotments on the Fairfield Ranger District.

DATES: The draft environmental impact statement was originally scheduled for March 2001 with a 45-day public review and comment period. The publishing and distribution of this draft EIS is cancelled.

FOR FURTHER INFORMATION CONTACT: Terry Fletcher, Interdisciplinary Team Leader, Sawtooth National Forest, 2647 Kimberly Road East, Twin Falls, ID 83301 (208) 737-3200.

SUPPLEMENTARY INFORMATION: A notice of intent to prepare an environmental impact statement appeared in the Federal Register on September 1, 2000 (pages 53261 and 53262) announcing the intent to prepare and release a draft EIS in March 2001 with a final EIS scheduled for May 2001. The deadline for public scoping comments expired October 6, 2000.

The original notice of intent informed the public of the agency's intention to document the analysis of twelve sheep allotments in an EIS. The primary reason for the cancellation is that revised direction has been issued by the Responsible Official to complete a capacity determination on all thirty-one sheep and cattle allotments on the Fairfield Ranger District.

Ed Waldopfel,
Acting Forest Supervisor.

[FR Doc. 01-30528 Filed 12-10-01; 8:45 am]

BILLING CODE 3410-11-M